DEPARTMENT OF THE INTERIOR

Bureau of Indian Affairs

Indian Gaming

AGENCY: Bureau of Indian Affairs, Interior.

ACTION: Notice of Tribal-State Gaming Compact Between the State of Arizona and the San Juan Southern Paiute Tribe.

SUMMARY: Pursuant to Section 11 of the Indian Gaming Regulatory Act of 1988 (IGRA), Public Law 100-497, 25 U.S.C 2710, the Secretary of the Interior shall publish, in the Federal Register, notice of approved Tribal-State Compacts for the purpose of engaging in Class III gaming activities on Indian lands. The Assistant Secretary—Indian Affairs, Department of the Interior, through her delegated authority, is publishing notice that the Tribal-State Compact for Class III gaming between the San Juan Southern Paiute Tribe and the State of Arizona is considered approved. By the terms of IGRA, the Compact is considered approved, but only to the extent the compact is consistent with the provisions of IGRA.

This Compact expands the scope of gaming activities authorized under the Compact, increases wager limits, increases the number of permitted gaming devices, and allows the tribe to enter into gaming device transfer agreements with one or more gaming tribes.

EFFECTIVE DATE: August 26, 2003.

FOR FURTHER INFORMATION CONTACT: George T. Skibine, Director, Office of Indian Gaming Management, Bureau of Indian Affairs, Washington, DC 20240, (202) 219-4066.

Dated: August 18, 2003.
Aurene M. Martin,
Acting Assistant Secretary—Indian Affairs.

[FR Doc. 03-21805 Filed 8-25-03; 8:45 am]

BILLING CODE 4310-4N-P